ENVIRONMENTAL PROTECTION AGENCY

[ER-FRL-6694-2]

Environmental Impacts Statements; Notice of Availability

Responsible Agency: Office of Federal Activities, General Information (202) 564-7167 or http://www.epa.gov/compliance/nepa/.

Weekly receipt of Environmental Impact Statements

Filed 12/10/2007 Through 12/14/2007

Pursuant to 40 CFR 1506.9.

EIS No. 20070522, Final EIS, IBR, CA, Lower Yuba River Accord, Proposal to Resolve Instream Flow Issues Associated with Operation, Yuba River, Yuba County, CA, Wait Period Ends: 01/22/2008, Contact: Tim Rust 916-978-5516

EIS No. 20070523, Draft EIS, NRC, NC, Generic—License Renewal of Nuclear Plants (GEIS) Regarding Shearon Harris Nuclear Power Plant, Unit 1, Plant-Specific Supplement 33 to NUREG-1437, Wake County, NC, Comment Period Ends: 03/05/2008, Contact: Samuel Hernandez 301-415-4049.

EIS No. 20070524, Draft EIS, BLM, 00, PROGRAMMATIC EIS—Oil Shale and Tar Sands Resource Management (RMP) Amendments to Address Land Use Allocations in Colorado, Utah and Wyoming, Comment Period Ends: 03/20/2008, Contact: Michael Nedd 202-208-4201.

EIS No. 20070525, Final EIS, NPS, CA, Big Lagoon Wetland and Creek Restoration Project, To Restore a Functional, Self-Sustaining Ecosystem, including Wetland, Riparian, and Aquatic Components, Golden Gate National Area, Muir Beach, Marin County, CA, Wait Period Ends: 02/04/2008, Contact: Steve Ortega 415-561-4841.

EIS No. 20070526, Draft EIS, AFS, WY, Thunder Basin National Grassland Prairie Dog Management Strategy, Land and Resource Management Plan Amendment #3, Proposes to Implement a Site-Specific Strategy to Manage Black Trailed Prairie Dog, Douglas Ranger District, Medicine Bow-Routt National Forests and Thunder Basin National Grassland, Campbell, Converse, Niobrara and Weston Counties, WY, Comment Period Ends: 02/04/2008, Contact: Misty Hays 307-358-4690.

EIS No. 20070527, Draft EIS, JUS, NV, Las Vegas Detention Facility, Proposed Contractor-Owned/Contractor-Operated Detention Facility, Implementation, Nevada Area, Comment Period Ends: 02/04/2008, Contact: Scott P. Stermer 202-353-4601.

EIS No. 20070528, Final EIS, AFS, UT, Millville Peak/Logan Peak Road Relocation Project, Provide a Safe, Reliable, Ground Access Route, Logan Ranger District, Wasatch-Cache National Forest, Cache County, UT, Wait Period Ends: 01/22/2008, Contact: Evelyn Sibbernsen 435-755-3620.

EIS No. 20070529, Draft EIS, NCP, DC, Smithsonian Institution National Museum of African American History and Culture, Construction and Operation, Between 14th and 15th Streets NW., and Constitution Avenue, NW., and Madison Drive, NW., Washington, DC, Comment Period Ends: 02/04/2008, Contact: Gene Keller 202-482-7251.

EIS No. 20070530, Final EIS, COE, 00, Wolf Creek Dam/Lake Cumberland Project, Emergency Measures in Response to Seepage, Mississippi River, South Central Kentucky and Central Tennessee, Wait Period Ends: 01/22/2008, Contact: Chip Hall 615-736-7666.

EIS No. 20070531, Final EIS, AFS, MT, Lolo National Forest Integrated Weed Management, To Establish Beneficial Vegetation and Weed Resistant Plant Communities, Missoula, Mineral, Sanders, Granite, Powell, Lewis and Clark, Flathead, Ravalli and Lake Counties, MT, Wait Period Ends: 01/22/2008, Contact: Andy Kulla 406-329-3962.

EIS No. 20070532, Draft EIS, BLM, ID, Three Rivers Stone Quarry Expansion Project, Proposing to Expand the Quarry Operation up to an Additional 73 Acres to Increase Mine Production of Flaystone, Custer County, ID, Comment Period Ends: 02/04/2008, Contact: Charles Horsburgh 208-524-7530.

EIS No. 20070533, Second Draft Supplement, AFS, CA, Watdog Project, Additional Clarification of Changes Between the Final EIS (2005) and Final Supplement EIS (2007), Feather River Ranger District, Plumas National Forest, Butte and Plumas Counties, CA, Comment Period Ends: 02/04/2008, Contact: Sharen Parker 530-534-6500.

EIS No. 20070534, Draft EIS, AFS, ID, Idaho Roadless Area Conservation Project, To Provide State-Specific Direction for the Conservation and Management of Inventoried Roadless Areas, National Forest System Lands in Idaho, Comment Period Ends: 03/13/2008, Contact: Brad Gilbert 208-765-7438.

EIS No. 20070535, Final EIS, AFS, CA, Horse Heli Project, Harvest Merchantable Timber, Thin Stands, Treat Fuels, and Conduct Associated Activities, Klamath National Forest, Oak Knoll Ranger District, Siskiyou County, CA, Wait Period Ends: 01/22/2008, Contact: Jan Ford 530-842-6131.

Amended Notices

EIS No. 20070440, Draft EIS, FHW, UT, Mountain View Corridor (MVC) Project, Proposed Transportation Improvement 2030 Travel Demand in Western Salt Lake County south of I-80 and west of Bangerter Highway and in northwestern Utah County of I-15, south of the Salt Lake County Line, and north of Utah Lake, Salt Lake and Utah County, UT , Comment Period Ends: 01/24/2008, Contact: Edward Woolford, P.E. 801-963-0182. Revision of FR Notice Published 10/26/2007: Extending Comment Period from 12/24/2007 to 01/24/2008.

Dated: December 18, 2007.
Robert W. Hargrove,
Director, NEPA Compliance Division, Office of Federal Activities.

[FR Doc. E7-24839 Filed 12-20-07; 8:45 am]

BILLING CODE 6560-50-P